DEPARTMENT OF COMMERCE

National Oceanic and Atmospheric Administration

[RTID 0648-XC287]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 145th Scientific and Statistical Committee (SSC), Pelagic and International Standing Committee, Fishery Rights of Indigenous People Standing Committee, Executive and Budget Standing Committee, and 192nd Council meetings to take actions on fishery management issues in the Western Pacific Region.

DATES: The meetings will be held between September 13 and September 22, 2022. For specific times and agendas, see SUPPLEMENTARY INFORMATION.

ADDRESSES: The SSC and Standing Committee meetings will be held in a hybrid format with in-person and remote participation (Webex) options available for the Council and SSC members, and public attendance limited to web conference via Webex. For the SSC and Standing Committee meetings, in-person attendance for Council and advisory body members will be hosted at the Council office, 1164 Bishop Street, Suite 1400, Honolulu, HI, 96813.

The 192nd Council Meeting will be held as a hybrid meeting for Council members and public. The in-person portion of the Council Meeting will be held at the Hilton Hawaiian Village, 2005 Kalia Road, Honolulu, HI, 96815. Remote participation option will be available via Webex.

Specific information on joining the meeting, connecting to the web conference and providing oral public comments will be posted on the Council website at www.wpcouncil.org. For assistance with the web conference connection, contact the Council office at (808) 522-8220.

Council address: Western Pacific Fishery Management Council, 1164 Bishop Street, Suite 1400, Honolulu, HI 96813.

FOR FURTHER INFORMATION CONTACT: Contact Kitty M. Simonds, Executive Director, Western Pacific Fishery Management Council; phone: (808) 522-8220.

SUPPLEMENTARY INFORMATION: All times shown are in Hawaii Standard Time. The 145th SSC meeting will be held between 9 a.m. and 5 p.m. on September 13-15, 2022. The Pelagic and International Standing Committee meeting will be held between 8:30 a.m. and 11:30 a.m. on September 19, 2022. The Fishery Rights of Indigenous People Standing Committee meeting will be held between 12:30 p.m. and 2:30 p.m. on September 19, 2022. The Executive and Budget Standing Committee meeting will be held between 2:30 p.m. and 5:30 p.m. on September 19, 2022. The 192nd Council meeting will be held between 9 a.m. and 5 p.m. on September 20-21, 2022, and between 9 a.m. and 1 p.m. on September 22, 2022.

Please note that the evolving public health situation regarding COVID-19 may affect the conduct of the September Council and its associated meetings. At the time this notice was submitted for publication, the Council anticipated convening the SSC and Standing Committee meetings as a hybrid format for members and by web conference for public attendance, and the Council meeting as an in-person meeting with a web conference attendance option. If public participation options will be modified, the Council will post notice on its website at www.wpcouncil.org by, to the extent practicable, 5 calendar days before each meeting.

Agenda items noted as “Final Action” refer to actions that may result in Council transmittal of a proposed fishery management plan, proposed plan amendment, or proposed regulations to the U.S. Secretary of Commerce, under Sections 304 or 305 of the Magnuson-Stevens Fishery Conservation and Management Act (MSA). In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 192nd Council meeting will be available at www.wpcouncil.org. Written public comments on final action items at the 192nd Council meeting should be received at the Council office by 5 p.m. HST, September 16, 2022, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website. This meeting will be recorded (audio only) for the purposes of generating the minutes of the meeting.

Agenda for the 145th SSC Meeting

Tuesday, September 13, 2022, 9 a.m. to 5 p.m.

1. Introductions

2. Approval of Draft Agenda and Assignment of Rapporteurs

3. Status of the 144th SSC Meeting Recommendations

4. Pacific Islands Fisheries Science Center Director Report

5. Protected Species

A. False Killer Whale Interaction and Depredation Analysis

B. Protected Species Interaction Estimation

C. Endangered Species Act (ESA) Section 7 Consultations

1. Hawaii Deep-set Longline Fishery Draft Biological Opinion

2. American Samoa Longline Fishery Draft Biological Opinion

D. Public Comment

E. SSC Discussion and Recommendations

6. Island Fisheries

A. Development of Status Determination Criteria for the Hawaii Kona Crab Fishery (Action Item)

B. Report on Uku Essential Fish Habitat (EFH) Western Pacific Stock Assessment Review (WPSAR)

C. Report on Ecosystem-based Fisheries Management Thresholds for Hawai'i Nearshore Fisheries

D. Public Comment

E. SSC Discussion and Recommendations

7. Program Planning and Research

A. Alternatives for Fishing Regulations in the Northwestern Hawaiian Islands (NWHI) (Action Item)

B. Alternatives for an Aquaculture Management Framework in the Western Pacific (Action Item)

C. Status Update on Territorial Bottomfish Management Unit Species (BMUS) Revision

D. Report of the 7th National Scientific Coordination Subcommittee Meeting

E. Preparations for the Ecosystem-based Fisheries Management Workshop

F. University of Hawaii Fisheries Program Development

G. Public Comment

J. SSC Discussion and Recommendations

Wednesday, September 14, 2022, 9 a.m. to 5 p.m.

8. Pelagic and International Fisheries

A. Longline Fishery Reports

1. Hawaii Longline Fishery Report

2. American Samoa Longline Fishery Report

3. American Samoa Large Vessel Prohibited Area (LVPA) Performance Review

B. Longline Gear Modifications and Impacts on Catch of Target and Non-Target Species

C. Pacific Islands Ocean Observing System (PacIOOS)

1. Updates to PacIOOS Scientific Products and Voyager Data Portal

2. Pelagic Telemetry Network Projects

D. International Fisheries

1. United Nations (UN) Ocean Conference

2. International Scientific Committee for Tuna and Tuna-like Species in the North Pacific Ocean 2022 (ISC22) Working Groups and Plenary

3. Western and Central Pacific Fisheries Commission (WCPFC) 18th Science Committee

4. Recommendations to the Permanent Advisory Committee (PAC)

E. Public Comment

F. SSC Discussion and Recommendations

Thursday, September 15, 2022, 9 a.m. to 5 p.m.

9. Other Business

A. Inter-American Tropical Tuna Commission (IATTC) Representative to SSC

B. December SSC Meetings Dates

10. Summary of SSC Recommendations to the Council

Agenda for the Pelagic and International Standing Committee

Monday, September 19, 2022, 8:30 a.m. to 11:30 a.m.

1. Status and Review of the Hawaii Deep-set and American Samoa Longline Fishery Biological Opinions

2. Opportunities for Fishery Development for U.S. Pacific Territories

3. U.S. Commitments through South Pacific Tuna Treaty

4. Outcomes of Intergovernmental Conference on Marine Biodiversity of Areas Beyond National Jurisdiction (BBNJ) Fifth Session

5. Issues Leading into U.S. PAC to WCPFC

6. Advisory Group Report and Recommendations

7. Other Business

8. Public Comment

9. Discussion and Recommendations

Agenda for the Fishery Rights of Indigenous People Standing Committee

Monday, September 19, 2022, 12:30 p.m. to 2:30 p.m.

1. Alternatives for Fishing Regulations in the NWHI

2. Alternatives for an Aquaculture Management Framework in the Western Pacific

3. Equity and Environmental Justice

4. Fisheries Development Plan in the Territories

5. Marine Conservation Plans

A. Guam (2023-26)

B. Commonwealth of the Northern Mariana Islands (CNMI) (2023-26)

C. Pacific Remote Island Areas (PRIA)/Sustainable Fisheries Fund (2023-26)

6. Advisory Group Report and Recommendations

7. Other Business

8. Public Comment

9. Discussion and Recommendations

Agenda for the Executive and Budget Standing Committee

Monday, September 19, 2022, 2:30 p.m. to 5:30 p.m.

1. Financial Reports

2. Administrative Reports

3. Council Program Plan Update

4. Council Family Changes

5. Meetings and Workshops

6. Other Issues

7. Public Comment

8. Discussion and Recommendations

Agenda for the 192nd Council Meeting

Tuesday, September 20, 2022, 9 a.m. to 5 p.m.

1. Welcome and Introductions

2. Opening Remarks

3. Oath of Office—New Council Members

4. Approval of the 192nd CM Agenda

5. Approval of the 191st CM Meeting Minutes

6. Executive Director's Report

7. Agency Reports

A. NMFS

1. NMFS Headquarters

2. Pacific Islands Regional Office

3. Pacific Islands Fisheries Science Center

B. NOAA Office of General Counsel Pacific Islands Section

C. Enforcement

1. U.S. Coast Guard

2. NOAA Office of Law Enforcement

3. NOAA Office of General Counsel Enforcement Section

D. U.S. State Department

E. U.S. Fish and Wildlife Service

F. Public Comment

G. Council Discussion and Action

8. Protected Species

A. ESA Section 7 Consultations

1. Status of the Hawaii Deep-set and American Samoa Longline Fishery Draft Biological Opinions

2. Final Bottomfish Fishery Biological Opinion

B. False Killer Whales Interaction and Depredation Analysis

C. ESA and Marine Mammal Protection Act Updates

D. Advisory Group Report and Recommendations

1. Advisory Panel

2. Fishing Industry Advisory Committee

3. Non-Commercial Fishing Advisory Committee

4. Scientific & Statistical Committee

5. Pelagic and International Standing Committee

E. Public Comment

F. Council Discussion and Action

9. Hawai`i Archipelago & Pacific Remote Island Areas (PRIA)

A. Moku Pepa

B. Department of Land and Natural Resources/Division of Aquatic Resources Report (Legislation, Enforcement)

C. Alternatives for Fisheries Management Measures in the NWHI (Initial Action)

D. Development of Status Determination Criteria for the Hawaii Kona Crab Fishery (Initial Action)

E. Report on Uku EFH WPSAR

F. Update on Green Turtle Management

G. Pacific Remote Island Marine National Monument Expansion Update

H. Advisory Group Report and Recommendations

1. Advisory Panel

2. Fishing Industry Advisory Committee

3. Non-Commercial Fishing Advisory Committee

4. Scientific & Statistical Committee

I. Public Comment

J. Council Discussion and Action

Wednesday, September 21, 2022, 9 a.m. to 5 p.m.

10. Program Planning and Research

A. National Legislative Report

1. Inflation Reduction Act of 2022

2. American Fisheries Advisory Committee Nominations

B. Alternatives for an Aquaculture Management Framework in the Western Pacific (Final Action)

C. Status Update on Territorial BMUS Revision

D. Update on the National Saltwater Recreational Fishing Policy

E. Improving the Collection of Hawaii Recreational Catch and Effort Data

F. Report of the 7th National Scientific Coordination Subcommittee Meeting

G. Preparations for the Ecosystem-based Fisheries Management Workshop

H. Regional Communications & Outreach Report

I. Advisory Group Report and Recommendations

1. Advisory Panel

2. Fishing Industry Advisory Committee

3. Non-Commercial Fishing Advisory Committee

4. Scientific & Statistical Committee

J. Public Comment

K. Council Discussion and Action

11. Pelagic & International Fisheries

A. PacIOOS Updates

B. Hawaii Longline Semi-Annual Report

C. American Samoa Longline Semi-Annual Report

D. American Samoa LVPA Performance Review

E. International Fisheries Issues

1. Increasing Influence of China in Pacific Islands

2. UN Ocean Conference and BBNJ

3. ISC22 Working Groups and Plenary

4. WCPFC 18th Science Committee

5. U.S. PAC to WCPFC

F. Advisory Group Report and Recommendations

1. Advisory Panel

2. Fishing Industry Advisory Committee

3. Non-Commercial Fishing Advisory Committee

4. Scientific & Statistical Committee

5. Pelagic and International Standing Committee

G. Public Comment

H. Council Discussion and Action

12. American Samoa Archipelago

A. Motu Lipoti

B. Department of Marine and Wildlife Resources Report

C. Advisory Group Report and Recommendations

1. Advisory Panel

2. Fishing Industry Advisory Committee

3. Scientific & Statistical Committee

D. Public Comment

E. Council Discussion and Action

Wednesday, September 21, 2022, 4:30 p.m. to 5 p.m.

Public Comment on Non-Agenda Items

Thursday, September 22, 2022, 9 a.m. to 1 p.m.

13. Mariana Archipelago

A. Commonwealth of the Northern Mariana Islands

1. Arongol Falú

2. Department of Land and Natural Resources/Division of Fish and Wildlife Report

B. Guam

1. Department of Agriculture/Division of Aquatic and Wildlife Resources Report

2. Isla Informe

C. Advisory Group Report and Recommendations

1. Advisory Panel

2. Fishing Industry Advisory Committee

3. Non-Commercial Fishing Advisory Committee

4. Scientific & Statistical Committee

D. Public Comment

E. Council Discussion and Action

14. Administrative Matters

A. Financial Reports

B. Administrative Reports

C. Council Program Planning Update

D. Council Family Changes

1. Advisory Panel Solicitation Review

E. Meetings and Workshops

F. Standing Committee Report

G. Public Comment

H. Council Discussion and Action

15. Other Business

Non-emergency issues not contained in this agenda may come before the Council for discussion and formal Council action during its 192nd meeting. However, Council action on regulatory issues will be restricted to those issues specifically listed in this document and any regulatory issue arising after publication of this document that requires emergency action under section 305(c) of the MSA, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: August 22, 2022.
Rey Israel Marquez,
Acting Deputy Director, Office of Sustainable Fisheries, National Marine Fisheries Service.

[FR Doc. 2022-18352 Filed 8-24-22; 8:45 am]

BILLING CODE 3510-22-P